ENVIRONMENTAL PROTECTION AGENCY

[EPA-HQ-OAR-2022-0037; FRL-10252-01-OMS]

Information Collection Request Submitted to OMB for Review and Approval; Comment Request; NSPS for Stationary Combustion Turbines (Renewal)

AGENCY: Environmental Protection Agency (EPA).

ACTION: Notice.

SUMMARY: The Environmental Protection Agency (EPA) has submitted an information collection request (ICR), NSPS for Stationary Combustion Turbines (EPA ICR Number 2177.08, OMB Control Number 2060-0582), to the Office of Management and Budget (OMB) for review and approval in accordance with the Paperwork Reduction Act. This is a proposed extension of the ICR, which is currently approved through November 30, 2022. Public comments were previously requested, via the Federal Register, on April 8, 2022 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before October 28, 2022.

ADDRESSES: Submit your comments, referencing Docket ID Number EPA-HQ-OAR-2022-0037, online using https://www.regulations.gov/ (our preferred method), or by email to docket@epa.gov, or by mail to: EPA Docket Center, Environmental Protection Agency, Mail Code 28221T, 1200 Pennsylvania Ave. NW, Washington, DC 20460.

The EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina 27711; telephone number: (919) 541-0833; email address: ali.muntasir@epa.gov.

SUPPLEMENTARY INFORMATION: Supporting documents, which explain in detail the information that the EPA will be collecting, are available in the public docket for this ICR. The docket can be viewed online at https://www.regulations.gov, or in person, at the EPA Docket Center, WJC West Building, Room 3334, 1301 Constitution Ave. NW, Washington, DC. The telephone number for the Docket Center is 202-566-1744. For additional information about EPA's public docket, visit: http://www.epa.gov/dockets.

Abstract: The New Source Performance Standards (NSPS) for Stationary Combustion Turbines (40 CFR part 60, subpart KKKK) were proposed on February 18, 2005, and promulgated on July 6, 2006. These regulations apply to new stationary combustion turbines with a heat input at peak load either equal to or greater than 10.7 gigajoules (10 MMBtu) per hour, based on the higher heating value of the fuel. New facilities include those that commenced construction, modification or reconstruction after the date of proposal. This information is being collected to assure compliance with 40 CFR part 60, subpart KKKK.

Form Numbers: None.

Respondents/affected entities: Stationary combustion turbines.

Respondent's obligation to respond: Mandatory (40 CFR part 60, subpart KKKK).

Estimated number of respondents: 871 (total).

Frequency of response: Semiannual.

Total estimated burden: 90,300 hours (per year). Burden is defined at 5 CFR 1320.3(b).

Total estimated cost: $10,800,000 (per year), which includes no annualized capital/startup and/or operation & maintenance costs.

Changes in the Estimates: The increase in burden from the most-recently approved ICR is due to an increase in the number of new or modified sources. This ICR updates the number of affected sources subject to the regulation based on an assumption that the industry continues to grow at a constant rate since the previous renewal. There are no capital or operation and maintenance costs associated with this regulation.

Courtney Kerwin,
Director, Regulatory Support Division.

[FR Doc. 2022-21019 Filed 9-27-22; 8:45 am]

BILLING CODE 6560-50-P